DEPARTMENT OF TRANSPORTATION

Federal Transit Administration

Notice of Limitation on Claims on Proposed Public Transportation Projects

AGENCY: Federal Transit Administration (FTA), DOT.

ACTION: Notice of Limitation on Claims.

SUMMARY: This notice announces actions taken by FTA as final for purposes of the limitation on claims. The FTA actions described in this notice consist of various environmental approvals for proposed public transportation projects in the following urbanized areas: New York (lower Manhattan), Seattle, Buffalo, New York (remainder), Providence, Hartford, Boston, Brattleboro (Vermont), and Bridgeport.

DATES: By this notice, FTA is advising the public of final agency actions subject to 23 U.S.C. 139(l). A claim seeking judicial review of the Federal agency actions on any of the listed public transportation projects will be barred unless the claim is filed on or before August 28, 2006. If the Federal law that authorizes judicial review of a claim provides a time period of less than 180 days for filing such claim, then that shorter time period still applies.

FOR FURTHER INFORMATION CONTACT: Joseph Ossi, Office of Planning and Environment, 202-366-1613, or Christopher Van Wyk, Office of Chief Counsel, 202-366-1733. FTA is located at 400 Seventh Street, SW., Washington, DC 20590. Office hours are from 9 a.m. to 5:30 p.m., Monday through Friday, except Federal holidays.

SUPPLEMENTARY INFORMATION: Notice is hereby given that FTA has taken final agency actions by issuing approval for the public transportation projects listed below. The actions on these projects, as well as the laws under which such actions were taken, are described in the documentation issued in connection with the project to comply with the National Environmental Policy Act (NEPA), and in other documents in the FTA administrative record for the project. The final agency environmental decision documents—Records of Decision (RODs) and Findings of No Significant Impact (FONSIs)—for the listed projects can be obtained by contacting the FTA Regional Office for the urbanized area where the project is located. The decision documents for the first three projects listed can be obtained by contacting the Lower Manhattan Recovery Office (LMRO) (contact information for the Regional Offices and for LMRO can be found at http://www.fta.dot.gov/about/offices/4978_ENG_HTML.htm).

This notice applies to all FTA decisions on the listed projects as of the issuance date of this notice and all laws under which such actions were taken, including, but not limited to, the National Environmental Policy Act (NEPA) [42 U.S.C. 4321-4375], section 4(f) of the Department of Transportation Act of 1966 [49 U.S.C. 303], section 106 of the National Historic Preservation Act of 1966, as amended [16 U.S.C. 470f], and the Clean Air Act [42 U.S.C. 7401-7671q].

The projects subject to this notice are:

1. Project name and location: Fulton Street Transit Center, New York, NY. Project sponsor: Metropolitan Transportation Authority Capital Construction. Project description: This project is a transit center that will make connections between a number of transit facilities in Lower Manhattan. Final agency actions: ROD issued November 22, 2004; Section 4(f) Finding; and Section 106 Programmatic Agreement. Supporting documentation: Final Environmental Impact Statement issued October 8, 2004.

2. Project name and location: South Ferry Terminal Station, New York, NY. Project sponsor: Metropolitan Transportation Authority Capital Construction. Project description: This project will replace the existing station with a new terminal that addresses the functional and operational deficiencies of the existing station. Final agency actions: FONSI issued August 30, 2004; Section 4(f) Finding; and Section 106 Programmatic Agreement. Supporting documentation: Environmental Assessment issued May 3, 2004.

3. Project name and location: Permanent World Trade Center (WTC) PATH Terminal, New York, NY. Project sponsor: Port Authority of New York and New Jersey. Project description: The project will result in a new permanent Port Authority Trans-Hudson (PATH) Terminal on the WTC site that combines an above-grade terminal building and sub-level pedestrian concourses on the eastern portion of the WTC site with additional pedestrian concourses, tracks, platforms, and a mezzanine on the western portion of the site. Final agency actions: ROD issued June 28, 2005; Section 4(f) Finding; and Section 106 Memorandum of Agreement. Supporting documentation: Final Environmental Impact Statement issued May 13, 2005.

4. Project name and location: Downtown Bremerton Pedestrian/Bremerton Transportation Center Access Improvements Project, Bremerton, WA. Project sponsors: Washington State Department of Transportation and Kitsap Transit. Project description: Project involves construction of a new access route to and from the Bremerton Transportation Center, as well as construction of a new passenger-only ferry facility, a new intermodal terminal and transit deck, and improved vehicle ferry waiting area and parking structure. Final agency actions: FONSI issued August 11, 2005; Section 4(f) Finding; and Section 106 Finding of No Adverse Effect. Supporting documentation: Environmental Assessment issued April 4, 2005.

5. Project name and location: Lakewood-to-Tacoma Sounder Commuter Rail, Tacoma, WA. Project sponsor: Sound Transit. Project description: Commuter rail facilities along an approximately 12-mile rail corridor between the City of Lakewood and the City of Tacoma. Final agency actions: ROD issued December 30, 2003; Section 4(f) Finding; and Section 106 Finding of No Adverse Effect. Supporting documentation: Final Environmental Impact Statement issued July 5, 2002.

6. Project name and location: Erie Canal Harbor Project, Buffalo, NY. Project sponsors: Niagara Frontier Transportation Authority and Empire State Development Corporation. Project description: Reconfiguration of a portion of the Buffalo River bulkhead and redevelopment of a site within the City's Waterfront Development Project Urban Renewal Area into a new harbor with series of landside improvements to facilitate and enhance public access to the waterfront, connect pedestrian and bicycle paths, and provide opportunities for private development. Final agency actions: Revised ROD issued March 2, 2005; Section 4(f) Finding; and Section 106 Programmatic Agreement. Supporting documentation: Supplemental Final Environmental Impact Statement issued December 7, 2004.

7. Project name and location: Second Avenue Subway, New York, NY. Project sponsors: Metropolitan Transportation Authority and New York City Transit. Project description: A new subway line extending the length of Manhattan's East Side from 125th Street in East Harlem to Hanover Square in the Financial District. Final agency actions: ROD issued July 8, 2004; Section 4(f) Finding; and Section 106 Programmatic Agreement. Supporting documentation: Final Environmental Impact Statement issued April 8, 2004.

8. Project name and location: East Side Access Project, New York, NY. Project sponsors: Metropolitan Transportation Authority and the Long Island Railroad. Project description: Construction of new tunnels in Queens and Manhattan that will bring Long Island Railroad trains into a new terminal beneath Grand Central Terminal on the east side of Manhattan. Final agency actions: ROD issued May 21, 2001; Section 4(f) Finding; and Section 106 Programmatic Agreement. Supporting documentation: Final Environmental Impact Statement issued March 6, 2001.

9. Project name and location: South County Commuter Rail, Providence, RI. Project sponsor: Rhode Island Department of Transportation. Project description: 20-mile commuter rail extension along Amtrak's Northeast Corridor from Providence to North Kingston. Final agency actions: FONSI issued on February 6, 2003; Section 4(f) Finding; and Section 106 Programmatic Agreement. Supporting documentation: Environmental Assessment issued on August 3, 2002.

10. Project name and location: New Britain-Hartford Busway, Hartford, CT. Project sponsor: Connecticut Department of Transportation. Project description: 12-station, 9.4 mile exclusive bus rapid transit system operating primarily in an existing and abandoned railroad right-of-way on a new roadway between downtown New Britain and downtown Hartford. Final agency actions: ROD issued on March 13, 2002; Section 4(f) Finding; and Section 106 Finding of No Effect. Supporting documentation: Final Environmental Impact Statement issued on December 21, 2001.

11. Project name and location: Copley Station Accessibility Improvements, Boston, MA. Project sponsor: Massachusetts Bay Transportation Authority (MBTA). Project description: Reconstruction of Copley Station on MBTA's Green Line to make it compliant with the Americans with Disabilities Act. Final agency actions: FONSI issued on December 30, 2004; Section 4(f) Finding; and Section 106 Finding of No Adverse Effect. Supporting documentation: Environmental Assessment issued on June 28, 2004.

12. Project name and location: Arlington Street Station Accessibility Improvements, Boston, MA. Project sponsor: Massachusetts Bay Transportation Authority (MBTA). Project description: Reconstruction of Arlington Street Station on MBTA's Green Line to make it compliant with the Americans with Disabilities Act. Final agency actions: FONSI issued on May 14, 2004; Section 4(f) Finding; and Section 106 Finding of No Adverse Effect. Supporting documentation: Environmental Assessment issued on July 21, 2003.

13. Project name and location: Government Station Accessibility Improvements, Boston, MA. Project sponsor: Massachusetts Bay Transportation Authority (MBTA). Project description: Reconstruction of Government Station on MBTA's Blue and Green Lines to make it compliant with the Americans with Disabilities Act. Final agency actions: FONSI issued on November 29, 2004; Section 4(f) Finding; and Section 106 Finding of No Adverse Effect. Supporting documentation: Environmental Assessment issued in July 2002.

14. Project name and location: Brattleboro Multimodal Transit Facility, Brattleboro, VT. Project sponsor: Town of Brattleboro. Project description: Construction of two transportation facilities, the Brattleboro Transportation Center and the Brattleboro Union Station. Final agency actions: FONSI issued on September 14, 2001; Section 4(f) Finding; and Section 106 Finding of No Adverse Effect. Supporting documentation: Environmental Assessment issued on June 22, 2001.

15. Project name and location: Bridgeport Intermodal Transportation Center, Bridgeport, CT. Project sponsor: City of Bridgeport. Project description: Construction of a new multimodal transportation center in the downtown. Final agency actions: FONSI issued on August 19, 2003; Section 4(f) Finding; and Section 106 Memorandum of Agreement. Supporting documentation: Environmental Assessment issued on June 17, 2003.

Issued on: February 24, 2006.
David J. Vozzolo,
Acting Associate Administrator for Planning and Environment, Washington, DC.

[FR Doc. E6-2924 Filed 2-28-06; 8:45 am]

BILLING CODE 4910-57-P